NATIONAL AERONAUTICS AND SPACE ADMINISTRATION

14 CFR Part 1210

[Notice (08-045)]

RIN 2700-AC81

Development Work for Industry in NASA Wind Tunnels

AGENCY: National Aeronautics and Space Administration.

ACTION: Final rule.

SUMMARY: The National Aeronautics and Space Administration (NASA) is amending its regulations by removing part 1210. This amendment will allow Agency, Center, and wind tunnel facility operations manuals to provide guidance on project priority, facility utilization charges, and test preparation and conduct.

DATES: Effective July 14, 2008.

FOR FURTHER INFORMATION CONTACT: Technical information: Michael George, 650-604-5881.

Legal information: Rebecca Gilchrist, 202-358-2072.

SUPPLEMENTARY INFORMATION: The amendment of 14 CFR part 1210 will eliminate existing errors in reference to Agency policy, offices, and positions. The amendment will also eliminate redundancy and conflicts in guidance regarding the establishment of agreements with other government agencies, industry, academia, and foreign entities as outlined in 14 CFR 1210.1 thru 1210.5. Authority, regulation, and guidance for these types of agreements are provided by the following policies: 42 U.S.C. 2473(c)(1), section 203(c)(1) of the National Aeronautics and Space Act of 1958, as amended; NASA Financial Management Requirements Vol. 16 Reimbursable Agreements; NASA Policy Directive 1050.1H Authority to Enter Space Act Agreements; and NAII 1050-1A Space Act Agreement Manual.

The amendment will eliminate existing errors in 14 CFR 1210.6 Test Preparation and Conduct which provides guidance in facility operational testing procedures. For example, the section does not address the implementation of NASA export control policy regarding data handling and transfer as required by the following: 50 U.S.C. Appendix, parts 2401-2420, the Export Administration Act of 1979 (Pub. L. 96-72), as amended, 15 CFR parts 730-774, Export Administration Regulations, 22 CFR parts 120-130, International Traffic in Arms Regulations.

Facility-specific, day-to-day operational procedures will be, and currently are, dictated by Agency and Center policy which can be found in documents such as:

APR 8800.7, R&D Facilities Services Core Processes, February 6, 2006.

NASA TM-1999-208478/Rev1 Glenn 1X1 Supersonic Wind Tunnel User Manual.

NASA TM 2004-21697 User Manual for 10X10 Supersonic Wind Tunnel.

Standards Handbook for Planning and Conducting Wind Tunnel Tests at Glenn Research Center.

The amendment will ensure Agency, Center, and facility policy to provide guidance where deemed appropriate and ease the process for changing and maintaining these documents by placing that responsibility at the appropriate management level.

List of Subjects in 14 CFR Part 1210

Armed Forces, Classified information, Engineers, Federal buildings and facilities, Government contracts, Intergovernmental relations, National defense, and Utilities.

PART 1210—[REMOVED]

Under the authority of 42 U.S.C. 2473, The National Aeronautics and Space Administration amends 14 CFR Chapter V by removing and reserving part 1210.

Michael D. Griffin,
Administrator.

[FR Doc. E8-10799 Filed 5-14-08; 8:45 am]

BILLING CODE 7510-13-P